DEPARTMENT OF COMMERCE

Foreign-Trade Zones Board

[B-43-2024]

Foreign-Trade Zone 3; Application for Production Authority; Opening of Comment Period on Submission Containing New Evidence; Phillips 66 Company (Renewable Fuels and By-Products); Rodeo, California

The FTZ Board is inviting public comment on a submission containing new evidence pertaining to the application on behalf of Phillips 66 Company (Phillips) requesting production authority within Subzone 3E in Rodeo, California. Specifically, the application requests authority to use foreign status feedstock in the production of renewable fuels.

On September 2, 2025, Phillips made a submission to the FTZ Board that included new evidence in response to the examiner's preliminary recommendation not to approve the requested production authority. In response to this invitation for public comment, parties may also address argument or evidence presented in the application and other prior submissions in this proceeding. Phillips' submission on the preliminary recommendation, application, and other prior submissions may be viewed in the Online FTZ Information System (OFIS) on the FTZ Board's website, accessible via www.trade.gov/ftz.

Public comment is invited from interested parties. Submissions shall be sent to the FTZ Board's Executive Secretary and sent to ftz@trade.gov. The closing period for their receipt is October 8, 2025. Rebuttal comments in response to material submitted during the foregoing period may be submitted during the subsequent 15-day period, until October 23, 2025.

For further information, contact Juanita Chen at juanita.chen@trade.gov.

Dated: September 2, 2025.
Elizabeth Whiteman,
Executive Secretary.

[FR Doc. 2025-17131 Filed 9-5-25; 8:45 am]

BILLING CODE 3510-DS-P